DEPARTMENT OF COMMERCE

National Oceanic and Atmospheric Administration

[I.D. 010801B]

Marine Mammals; File No. 473-1433-02.

AGENCY: National Marine Fisheries Service (NMFS), National Oceanic and Atmospheric Administration (NOAA), Commerce.

ACTION: Issuance of permit amendment.

SUMMARY: Notice is hereby given that Permit No. 473-1433-01, issued to Janice Straley, University of Southeast Alaska, 1332 Seward Avenue, Sitka, Alaska 99835-9498, was amended.

ADDRESSES: The amendment and related documents are available for review upon written request or by appointment in the following offices: Permits and Documentation Division, Office of Protected Resources, NMFS, 1315 East-West Highway, Room 13130, Silver Spring, MD 20910 (301/713-2289); and Regional Administrator, Alaska Region, NMFS, 709 West 9th Street, 4th Floor, Juneau, Alaska 99801, (907/586-7221).

FOR FURTHER INFORMATION CONTACT: Jill Lewandowski, 301/713-2289.

SUPPLEMENTARY INFORMATION: On August 15, 2000, notice was published in the Federal Register (65 FR 49785) that an amendment of Permit No. 473-1433, issued December 23, 1997 (62 FR 67052), had been requested by the above-named individual. The requested amendment has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

The permit has been amended to authorize: (1) 100 sperm whale takes (Physeter catodon) by photo-identification; (2) 5 sperm whale takes by suction cup tagging for critter cam; and (3) 25 sperm whale takes for harassment incidental to suction cup tagging with critter cam. No comments were received from the public on this permit amendment.

Issuance of this permit, as required by the ESA, was based on a finding that such permit (1) was applied for in good faith, (2) will not operate to the disadvantage of the endangered species which is the subject of this permit, and (3) is consistent with the purposes and policies set forth in section 2 of the ESA.

Dated: February 16, 2001.
Eugene T. Nitta,
Acting Chief, Permits and Documentation Division, Office of Protected Resources, National Marine Fisheries Service.

[FR Doc. 01-4519 Filed 2-22-01; 8:45 am]

BILLING CODE 3510-22-S